DEPARTMENT OF COMMERCE

National Oceanic and Atmospheric Administration

50 CFR Part 660

[Docket No. 210505-0101; RTID 0648-XB912]

Fisheries Off West Coast States; Modification of the West Coast Salmon Fisheries; Inseason Actions #1 and #2

AGENCY: National Marine Fisheries Service (NMFS), National Oceanic and Atmospheric Administration (NOAA), Commerce.

ACTION: Inseason modification of 2022 management measures.

SUMMARY: NMFS announces two inseason actions in the 2022 ocean salmon fisheries. These inseason actions modify the commercial and recreational ocean salmon fisheries in the area from Cape Falcon, OR, to Point Arena, CA.

DATES: The effective dates for the inseason actions are set out in this document under the heading Inseason Actions and the actions remain in effect until superseded or modified.

FOR FURTHER INFORMATION CONTACT: Shannon Penna at 562-676-2148, Email: shannon.penna@noaa.gov.

SUPPLEMENTARY INFORMATION:

Background

The 2021 annual management measures for ocean salmon fisheries (86 FR 26425, May 14, 2021), announced management measures for the commercial and recreational fisheries in the area from the U.S./Canada border to the U.S./Mexico border, effective from 0001 hours Pacific Daylight Time (PDT), May 16, 2021, until the effective date of the 2022 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council), and the appropriate State Directors (50 CFR 660.409(b)—Flexible inseason management provisions).

Management of the salmon fisheries is divided into two geographic areas: North of Cape Falcon (NOF) (U.S./Canada border to Cape Falcon, OR), and south of Cape Falcon (SOF) (Cape Falcon, OR, to the U.S./Mexico border). The actions described in this document affect only the SOF recreational salmon fishery, as set out under the heading Inseason Action below.

Consultation on these inseason actions occurred on March 11, 2022, and March 14, 2022. Representatives from NMFS, Oregon Department of Fish and Wildlife (ODFW), California Department of Fish and Wildlife (CDFW), and Council staff participated in the consultations. The Council may consider further inseason action at its April 6-13, 2022, meeting.

These inseason actions were announced on NMFS' telephone hotline and U.S. Coast Guard radio broadcast on the date of the consultations (50 CFR 660.411(a)(2)).

Inseason Actions

At its March 8-14, 2022, meeting, the Council's Salmon Technical Team (STT) presented updated stock abundance forecasts for salmon stocks managed under the Pacific Coast Salmon Fishery Management Plan (FMP). Based on the STT's report, SOF ocean salmon fisheries will be constrained in 2022 by the abundance forecast for Klamath River fall-run Chinook salmon (KRFC), which was determined to be overfished under the Magnuson-Stevens Fishery Conservation and Management Act (MSA) in 2018. The forecast of potential spawner abundance is derived from the ocean abundance forecasts, ocean natural mortality rates, age-specific maturation rates, stray rates, and the proportion of escapement expected to spawn in natural areas.

Inseason Action #1

Description of the action: Inseason action #1 modifies the SOF commercial salmon fishery from the Heceta Bank Line (latitude 43°58′00″ N), OR, to Humbug Mountain, OR, previously scheduled to open on March 15. This fishery is closed through April 30, 2022. This area is scheduled to re-open to commercial troll fishing on May 1, 2022.

Effective date: Inseason action #1 took effect on March 15, 2021, and remains in effect until superseded.

Reason and authorization for the action: NMFS is taking inseason action in the commercial salmon fisheries to manage and conserve SOF ocean salmon fishery impacts on KRFC and to provide additional fishing opportunity in adjacent areas. In Oregon, this inseason action takes place in the area from Cape Falcon to Humbug Mountain at the Heceta Bank Line, which is the port area analysis boundary used by the STT. This allows for finer-scale management of fisheries in the Northern Oregon (NO) (Cape Falcon to Heceta Bank Line) and Central Oregon (CO) (Heceta Bank Line to Humbug Mountain) port areas. The NO and CO port area impacts are analyzed separately by the STT and the environmental assessment prepared under the National Environmental Policy Act (NEPA) Final Environmental Assessment for 2021 Ocean Salmon Fisheries Management Measures (https://www.fisheries.noaa.gov/action/fisheries-west-coast-states-west-coast-salmon-fisheries-2021-management-measures) and have different impacts on salmon stocks; e.g., the NO port area has lower impacts on KRFC than the CO port area.

The West Coast Region Regional Administer (RA) considered the landings of Chinook salmon to date, fishery catch and effort to date, and the timing of the action relative to the length of the season, and determined that this inseason action was necessary to meet management goals set preseason. Inseason action to modify quotas and/or fishing seasons is authorized by 50 CFR 660.409(b)(1)(i).

Consultation date and participants: Consultation on inseason action #1 occurred on March 11, 2022. Representatives from NMFS, CDFW, ODFW, and the Council participated in this consultation.

Inseason Action #2

Description of the action: Inseason action #2 modifies the ocean salmon recreational fishery from latitude 40°10′ N to Point Arena, CA, previously scheduled to open on April 2, 2022. This fishery is closed through April 30, 2022.This area is schedule to re-open for recreational fishing on May 1, 2022.

Effective date: Inseason #2 took effect on March 14, 2022, and remains in effect until superseded.

Reason and authorization for the action: NMFS is taking inseason action in the recreational salmon fisheries to manage and conserve SOF ocean salmon fishery impacts on KRFC and to provide additional fishing opportunity in adjacent areas. This modification is needed to attain escapement goals and conservation objectives given 2022 preseason forecasts previously mentioned.

The RA considered Chinook salmon landings and fishery catch and effort to date in the SOF area from latitude 40°10′ N to Point Arena, CA, and determined that this inseason action was necessary to meet management objectives set preseason. Inseason action to modify quotas and/or fishing seasons is authorized by 50 CFR 660.409(b)(1)(i).

Consultation date and participants: Consultation on inseason action #2 occurred on March 14, 2022. Representatives from NMFS, CDFW, ODFW, and the Council participated in this consultation.

All other restrictions and regulations remain in effect as announced for the 2021 ocean salmon fisheries (86 FR 26425, May 14, 2021), as modified by previous inseason action (86 FR 34161, June 29, 2021; 86 FR 37249, July 15, 2021; 86 FR 40182, July 28, 2021; 86 FR 43967, August 11, 2021; 86 FR 48343, August 30, 2021; 86 FR 54407, October 1, 2021; 86 FR 64082, November 17, 2021).

The RA determined that these inseason actions were warranted based on the best available information on Pacific salmon abundance forecasts, landings to date, anticipated fishery effort and projected catch, and the other factors and considerations set forth in 50 CFR 660.409. The states manage the fisheries in state waters adjacent to the areas of the U.S. exclusive economic zone (3-200 nautical miles (5.6-370.4 kilometers) off the coasts of the states of Washington, Oregon, and California) consistent with these Federal actions. As provided by the inseason notice procedures at 50 CFR 660.411, actual notice of the described regulatory action was given, prior to the time the action was effective, by telephone hotline numbers 206-526-6667 and 800-662-9825, and by U.S. Coast Guard Notice to Mariners broadcasts on Channel 16 VHF-FM and 2182 kHz.

Classification

NMFS issues this action pursuant to section 305(d) of the Magnuson-Stevens Fishery Conservation and Management Act (MSA). This action is authorized by 50 CFR 660.409, which was issued pursuant to section 304(b) of the MSA, and is exempt from review under Executive Order 12866.

Pursuant to 5 U.S.C. 553(b)(3)(B), there is good cause to waive prior notice and an opportunity for public comment on this action, as notice and comment would be impracticable and contrary to the public interest. Prior notice and opportunity for public comment on this action was impracticable because NMFS had insufficient time to provide for prior notice and the opportunity for public comment between the time Chinook salmon abundance, catch, and effort information were developed and fisheries impacts were calculated, and the time the fishery modifications had to be implemented in order to ensure that fisheries are managed based on the best scientific information available and that fishery participants can take advantage of the additional fishing opportunity these changes provide. As previously noted, actual notice of the regulatory actions was provided to fishers through telephone hotline and radio notification. These actions comply with the requirements of the annual management measures for ocean salmon fisheries (86 FR 26425, May 14, 2021), the Fishery Management Plan (FMP), and regulations implementing the FMP under 50 CFR 660.409 and 660.411.

There is good cause under 5 U.S.C. 553(d)(3) to waive the 30-day delay in effective date, as a delay in effectiveness of this action would restrict fishing at levels inconsistent with the goals of the FMP and the current management measures.

Authority: 16 U.S.C. 1801 et seq.

Dated: April 21, 2022.
Jennifer M. Wallace,
Acting Director, Office of Sustainable Fisheries, National Marine Fisheries Service.

[FR Doc. 2022-08887 Filed 4-26-22; 8:45 am]

BILLING CODE 3510-22-P